DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: National Health Service Corps Ambassador Portal OMB No. 0915-xxxx—New.

Abstract: The National Health Service Corps (NHSC), administered by the Health Resources and Services Administration, is committed to improving the health of the nation's underserved by uniting communities in need with caring health professionals and by supporting communities' efforts to build better systems of care. The NHSC programs provide scholarships and repay educational loans for primary care physicians, dentists, nurse practitioners, physician assistants, behavioral health providers, and other primary care providers who agree to practice in areas of the country that need them most. The NHSC invites individuals who are affiliated with academic, clinical, trade, and other public health related organizations to apply to be volunteers within the NHSC Ambassador Program. NHSC Ambassadors are dedicated volunteers who help educate and inform prospective NHSC members. Ambassadors give their time and talents to spread the word about the opportunities available through the NHSC and serve as additional local resources for current NHSC members. NHSC Ambassadors inspire and motivate students and providers to provide primary health care in communities with limited access to care.

The NHSC Ambassador Portal will serve as both the application interface for interested individuals to apply and become NHSC Ambassadors, as well the public-facing online searchable database of Ambassador contact information. Applicants will create individual Ambassador profiles that will contain information such as name, email address(es), professional/employment information (including organization name and address or the school which they attend), phone number(s), which discipline of students and/or professionals they interact with, and a brief reason why they would like to be an Ambassador. Completed applications will be forwarded through the portal to NHSC staff for approval. If approved, the NHSC Ambassadors will have the opportunity to add brief professional biographies and social network addresses to their profile. Assistance in completing the application will be provided through prompts via the online portal and also through the NHSC Customer Care Center, if necessary.

Need and Proposed Use of the Information: The need and purpose of this information collection is to create a database where interested parties can search for NHSC Ambassadors (that meet specific search criteria) to serve as local resources on the NHSC programs. The other purpose is that NHSC can have access to volunteers who are available to spread important programmatic information on behalf of the NHSC.

Likely Respondents: Individuals who are affiliated with academic, clinical, trade, and other public health related organizations.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours:
Form name | Number of respondents | Number of responses per respondent | Total responses | Average burden per response (in hours) | Total burden hours
Ambassador Portal—New Applicants | 200 | 1 | 200 | .16 | 32
Ambassador Portal—Updates to current Ambassador profiles | 500 | 1 | 500 | .16 | 80
Total | 700 | 1 | 700 | .16 | 112

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: March 6, 2014.
Jackie Painter,
Deputy Director, Division of Policy and Information Coordination.

[FR Doc. 2014-05380 Filed 3-11-14; 8:45 am]

BILLING CODE 4165-15-P